DEPARMENT OF THE INTERIOR

Fish and Wildlife Service

[FWS-R5-ES-2010-N124; 50120-1113-0000-F4]

Endangered and Threatened Wildlife and Plants: New Hampshire Fish and Game Department, Application for Enhancement of Survival Permit, New England Cottontail, Hillsborough, Rockingham, Merrimack, Cheshire, and Strafford Counties, NH

AGENCY: Fish and Wildlife Service, Interior.

ACTION: Notice of availability and receipt of application; request for comments.

SUMMARY: The New Hampshire Fish and Game Department (NHFGD) has applied to the U.S. Fish and Wildlife Service (Service) for an Enhancement of Survival Permit under the Endangered Species Act of 1973 (ESA), as amended. The requested permit would authorize take of the New England cottontail (Sylvilagus transitionalis; hereafter, NEC) resulting from certain habitat improvement and land use activities should the species be listed as endangered or threatened in the future. The permit application includes a proposed Candidate Conservation Agreement with Assurances (CCAA) between the NHFGD and the Service. In accordance with the requirements of the National Environmental Policy Act of 1969 (NEPA), we have prepared a draft categorical exclusion of the impacts of the requested permit. We are accepting comments on the permit application, proposed CCAA, and draft NEPA document.

DATES: Written comments on the permit application, draft CCAA, and draft NEPA document must be received on or before November 26, 2010.

ADDRESSES: Address any written comments concerning this notice to Anthony Tur, New England Field Office, U.S. Fish and Wildlife Service, 70 Commercial Street, Suite 300, Concord, NH 03301; alternatively, fax written comments to 603-224-0104, or electronically mail comments to Anthony_Tur@fws.gov.

FOR FURTHER INFORMATION CONTACT: Anthony Tur, at the New England Field Office (see ADDRESSES above), 603-223-2541; facsimile 603-223-0104, or Anthony_Tur@fws.gov. If you use a telecommunications device for the deaf (TDD), you may call the Federal Information Relay Service (FIRS) at 800-877-8339.

SUPPLEMENTARY INFORMATION:

Document Availability

Copies of the permit application, proposed CCAA, and draft NEPA document are available for public inspection, by appointment, at the New England Field Office (see ADDRESSES), or you may view them on the Internet at http://www.fws.gov/newengland/. Copies of these documents can also be obtained by contacting the office and personnel listed in the ADDRESSES section.

We furnish this notice to provide the public, other State and Federal agencies, and interested Tribes an opportunity to review and comment on the permit application, proposed CCAA, and draft NEPA document. We specifically request information, views, and opinions from the public on the proposed Federal action of issuing a permit. Further, we solicit information regarding the adequacy of the permit application, including the proposed CCAA, as measured against our permit issuance criteria found in 50 CFR 17.22(d) and 17.32(d).

Public Availability of Comments

Before including your address, telephone number, electronic mail address, or other personal identifying information in your comment, be advised that your entire comment, including your personal identifying information, may be made publicly available at any time. While you can ask us in your comment to withhold from public review your personal identifying information, we cannot guarantee that we will be able to do so.

Background

Permits for enhancement of survival through CCAAs encourage non-Federal property owners to implement conservation measures for species that are, or are likely to become, candidates for Federal listing as endangered or threatened by assuring property owners they will not be subjected to increased property use restrictions if the covered species becomes listed in the future. Application requirements and issuance criteria for permits for enhancement of survival through CCAAs are in the Code of Regulations (CFR) at 50 CFR 17.22(d) and 17.32(d). See also our policy on CCAAs (64 FR 32726; June 17, 1999).

The CCAA that is the subject of this notice is a programmatic agreement between the Service and the NHFGD to further the conservation of the NEC. Under the CCAA, the NHFGD would establish a program in which individual property owners can enroll. To enroll in the program, a property owner would enter into a cooperative agreement with the NHFGD that contains a site-specific management plan for the enrolled lands, and the NHFGD would then issue the property owner a Certificate of Inclusion. The site-specific management plan will specify conservation measures to address known threats to the NEC which may include, but are not limited to, cutting vegetation to promote establishment of shrubland habitat, maintaining existing shrubland habitat, planting seeds and seedlings, controlling invasive plants species, removing non-native eastern cottontails, and translocating NEC to newly created habitats. The plan will also specify measures to minimize the incidental take of NEC that might occur as a result of implementing the conservation measures or conducting other covered activities. The Certificate of Inclusion issued to the property owner will authorize this incidental take of the NEC if the species becomes listed under the ESA in the future.

The NHFGD seeks to enroll in the program 3,000 to 5,000 acres of private and State-owned lands for NEC habitat management in Hillsborough, Rockingham, Merrimack, Cheshire, and Strafford Counties in southern New Hampshire. Lands targeted for NEC habitat management are generally those for which the current land use maintains or is capable of maintaining suitable NEC habitat with minimal take of NECs. Site potential for enrolled lands will be evaluated through a Habitat Suitability Index. Because resources for implementing conservation measures on enrolled lands are limited, sites with the highest potential value will be prioritized for enrollment based on proximity to existing occupied sites, along with other habitat parameters. Also eligible for enrollment are those lands under the same ownership that are adjacent to lands being managed for the benefit of NEC (hereafter referred to as “adjacent lands”). These adjacent lands include areas where ongoing and future activities (e.g., hay production and timber harvesting) may result in inadvertent take of NEC. Although the amount of adjacent acreage that a property owner will enroll under this CCAA will depend on the circumstances specific to the property and property owner, we estimate that the typical property owner will enroll an area of adjacent lands about equal to twice the area of the lands managed for NEC. Therefore, about 10,000 acres of adjacent lands are associated with the 5,000 acres targeted for NEC habitat management. If we were to reach our target of 5,000 acres managed for NEC under this CCAA, then we estimate a total of about 15,000 acres would be enrolled under this CCAA.

As required by NEPA, we evaluated the effects to the environment that would result from issuance of the requested permit, and we do not foresee any significant effects. Therefore, we are proposing to categorically exclude this action from further analysis under NEPA. Entering into a cooperative agreement is strictly voluntary for property owners, and the activities to be covered under the permit are generally activities already occurring on these properties.

We will evaluate the permit application, associated documents, and comments we receive to determine whether the permit application meets the requirements of the ESA, NEPA, and implementing regulations. If we determine that all requirements are met, we will sign the proposed CCAA and issue a permit under section 10(a)(1)(A) of the ESA to the NHFGD for take of NEC. We will not make our final decision until after the end of the 30-day public comment period, and we will fully consider all comments we receive during the public comment period.

Dated: June 18, 2010.
Sherry W. Morgan,
Acting Regional Director, Region 5, U.S. Fish and Wildlife Service, Hadley, Massachusetts.

[FR Doc. 2010-27001 Filed 10-26-10; 8:45 am]

BILLING CODE 4310-55-P